DEPARTMENT OF COMMERCE

National Oceanic and Atmospheric Administration

[I.D. 102604A]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Herring Advisory Panel and Oversight Committee in November, 2004. Recommendations from the committees will be brought to the full Council for formal consideration and action, if appropriate.

DATES: The meetings will held on Monday, November 15, 2004 at 9:30 a.m. to 12:30 p.m. for the Advisory Panel and then from 1:30 p.m. to 5 p.m. for the Oversight Committee.

ADDRESSES: The meetings will be held at the Holiday Inn by the Bay, 88 Spring Street, Portland, ME 04101; telephone: (207) 775-2311.

Council address: New England Fishery Management Council, 50 Water Street, Newburyport, MA 01950.

FOR FURTHER INFORMATION CONTACT: Paul J. Howard, Executive Director, New England Fishery Management Council; telephone: (978) 465-0492.

SUPPLEMENTARY INFORMATION: Monday, November 15, 2004, 9:30 a.m. to 12:30 p.m. - Herring Advisory Panel Meeting.

The panel will review advisory panel policies and elect the panel chairman for 2004-07. They will review a range of alternatives proposed for Amendment 1 to the Herring Fishery Management Plan (FMP) and provide Herring Advisory Panel comments/recommendations. Also on the agenda is the review of information and analyses in Framework Adjustment 40B to the Northeast Multispecies (Groundfish) FMP, review Groundfish Committee recommendations regarding Framework 40B measures that may impact herring fishing, and develop related Herring Advisory Panel comments and recommendations.

Monday, November 15, 2004, 1:30 p.m. to 5 p.m. - Herring Oversight Committee Meeting.

The committee will review Herring Advisory Panel recommendations from the morning meeting. They will also review a range of alternatives proposed for Amendment 1 to the Herring FMP and develop related Herring Committee recommendations and motions for Council consideration. Also on the agenda will be a review of information and analyses in Framework Adjustment 40B to the Northeast Multispecies (Groundfish) FMP, review Groundfish Committee recommendations regarding Framework 40B measures that may impact herring fishing, review Herring Advisory Panel recommendations, develop related Herring Committee recommendations for Council consideration.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: October 27, 2004.
Alan D. Risenhoover,
Acting Director, Office of Sustainable Fisheries, National Marine Fisheries Service.

[FR Doc. E4-2931 Filed 10-29-04; 8:45 am]

BILLING CODE 3510-22-S